DEPARTMENT OF LABOR

Employment and Training Administration

[TA-W-54,032]

Thermotech Company, El Paso, TX; Notice of Termination of Investigation

Pursuant to section 221 of the Trade Act of 1974, an investigation was initiated on January 16, 2004 in response to a petition filed by a company official on behalf of workers at Thermotech Company, El Paso, Texas.

The petitioner has requested that the petition be withdrawn. Consequently, the investigation has been terminated.

Signed in Washington, DC this 21st day of January 2004.
Elliott S. Kushner,
Certifying Officer, Division of Trade Adjustment Assistance.

[FR Doc. 04-3319 Filed 2-13-04; 8:45 am]

BILLING CODE 4510-30-P